CORPORATION FOR NATIONAL AND COMMUNITY SERVICE

Privacy Act of 1974; System of Records

AGENCY: Corporation for National and Community Service.

ACTION: Rescindment of two system of records notices.

SUMMARY: The Corporation for National and Community Service (CNCS) is rescinding two systems of records named Travel Files—Corporation-7 and Travel Authorization Files—Corporation-16. These two systems of records were used to manage information about employees and invitational travelers who traveled on official CNCS business.

DATES: You may submit comments until June 15, 2020. These system of records notices (SORNs) will be rescinded June 15, 2020 unless CNCS receives any timely comments which would result in a contrary determination.

ADDRESSES: You may submit comments, identified by system name and number, to CNCS via any of the following methods:

1. Electronically through regulations.gov.

Once you access regulations.gov, locate the web page for these SORNs by searching for Travel Files—Corporation-7 or Travel Authorization Files—Corporation-16. If you upload any files, please make sure they include your first name, last name, and the names of the SORNs being rescinded.

2. By email at privacy@cns.gov.

3. By mail: Corporation for National and Community Service, Attn: Chief Privacy Officer, OIT, 250 E Street SW, Washington, DC 20525.

4. By hand delivery or courier to CNCS at the address for mail between 9:00 a.m. and 4:00 p.m. Eastern Standard Time, Monday through Friday, except for Federal holidays.

Please note that all submissions received may be posted without change to regulations.gov, including any personal information.

FOR FURTHER INFORMATION CONTACT: Aaron Goldstein, (202) 606-3237, or by email at AGoldstein@cns.gov. Please include the system of records' name and number.

SUPPLEMENTARY INFORMATION: CNCS established and maintained two systems of records, Travel Files—Corporation-7 and Travel Authorization Files—Corporation-16, to manage information about employees and invitational travelers who traveled on official CNCS business. CNCS now participates in the General Services Administration (GSA) E-Gov Travel Service described at http://www.gsa.gov/egovtravel. The records that were handled according to Travel Files—Corporation-7 and Travel Authorization Files—Corporation-16 are now handled according to GSA's government-wide SORN, GSA/GOVT-4, Contracted Travel Services Program (74 FR 26700, July 6, 2009). As such, CNCS is rescinding the Travel Files—Corporation-7 and Travel Authorization Files—Corporation-16 system of records.

SYSTEM NAME AND NUMBER:

Travel Files—Corporation-7.

HISTORY:

67 FR 4395, 4402, January 30, 2002.

SYSTEM NAME AND NUMBER:

Travel Authorization Files—Corporation-16.

HISTORY:

67 FR 4395, 4409, January 30, 2002.

Dated: May 12, 2020.
Ndiogou Cisse,
Senior Agency Official for Privacy and Chief Information Officer.

[FR Doc. 2020-10477 Filed 5-14-20; 8:45 am]

BILLING CODE 6050-28-P